DEPARTMENT OF THE INTERIOR

Bureau of Land Management

[LLWO320000 L13300000 PO0000; OMB Control Number 1004-0121]

Information Collection; Leasing of Solid Mineral Other Than Coal and Oil Shale

AGENCY: Bureau of Land Management.

ACTION: 30-day Notice and Request for Comments.

SUMMARY: The Bureau of Land Management (BLM) has submitted an information collection request to the Office of Management and Budget (OMB) for a 3-year extension of OMB Control Number 1004-0121 under the Paperwork Reduction Act. This control number covers paperwork requirements in 43 CFR parts 3500 through 3590, which pertain to leasing of solid minerals other than coal and oil shale.

DATES: The OMB is required to respond to this information collection request within 60 days but may respond after 30 days. Therefore, written comments should be received on or before December 30, 2009.

ADDRESSES: You may submit comments directly to the Desk Officer for the Department of the Interior (OMB #1004-0121), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. You may also send a copy of your comments by electronic mail to jean_sonneman@blm.gov.

FOR FURTHER INFORMATION CONTACT: Vincent Vogt, Solid Minerals Group, at 202-785-6570 (Commercial or FTS). Persons who use a telecommunication device for the deaf (TDD) may call the Federal Information Relay Service (FIRS) on 1-800-877-8330, 24 hours a day, seven days a week, to contact Mr. Vogt.

SUPPLEMENTARY INFORMATION: Title: Leasing of Solid Minerals Other Than Coal and Oil Shale (43 CFR 3500—3590).

OMB Number: 1004-0121.

Abstract: This notice pertains to information collections that are necessary for the management of leases and prospecting permits for solid minerals other than coal and oil shale. The BLM manages such leases and permits under the Mineral Leasing Act of 1920, the Mineral Leasing Act for Acquired Lands (30 U.S.C. 351-359), the Multiple Mineral Development Act (30 U.S.C. 521-531), and other statutes that authorize the Secretary of the Interior to regulate the development of mineral deposits on Federal lands. The information collections covered by this notice are found at 43 CFR parts 3500 through 3590, and in the following forms:

• Form 3504-1, Personal Bond and Power of Attorney;

• Form 3504-3, Bond Under Lease;

• Form 3504-4, Statewide or Nationwide Personal Mineral Bond for Prospecting Permits and Leases;

• Form 3510-1, Prospecting Application and Permit;

• Form 3510-2, Phosphate or Sodium Use Permit; and

• Form 3520-7, Lease.

60-Day Notice: As required in 5 CFR 1320.8(d), the BLM published a 60-day notice in the Federal Register on June 17, 2009 (74 FR 28718), soliciting comments from the public and other interested parties. The comment period closed on August 17, 2009. The BLM did not receive any comments from the public in response to this notice or unsolicited comments from respondents covered under these regulations.

Current Action: This proposal is being submitted to extend the expiration date of November 30, 2009.

Type of Review: 3-year extension.

Affected Public: Individuals, associations, and corporations seeking authorizations pertaining to solid minerals other than coal and oil shale.

Obligation to Respond: Required to obtain or retain benefits.

Annual Responses: 473.

Annual Burden Hours: 16,346.

Document processing fees are associated with some of these information collections, and publication costs are associated with one of these information collections.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0121 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. E9-28436 Filed 11-27-09; 8:45 am]

BILLING CODE 4310-84-P